DEPARTMENT OF COMMERCE

Foreign-Trade Zones Board

[B-6-2018]

Foreign-Trade Zone 81—Portsmouth, New Hampshire; Application for Reorganization Under Alternative Site Framework

An application has been submitted to the Foreign-Trade Zones (FTZ) Board by the Pease Development Authority, grantee of FTZ 81, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on January 30, 2018.

FTZ 81 was approved by the FTZ Board on January 20, 1983 (Board Order 207, 48 FR 4308, January 31, 1983) and expanded on April 12, 1985 (Board Order 302, 50 FR 15948, April 23, 1985) and on June 25, 1997 (Board Order 906, 52 FR 36259, July 7, 1997).

The current zone includes the following sites: Site 1 (11 acres)—Port Authority marine terminal, Portsmouth Harbor, Portsmouth; Site 2 (175 acres)—Portsmouth Industrial Park, Lafayette Road, Portsmouth; Site 4 (1,468 acres)—Manchester Airport, 1 Brita Way and 16 Delta Drive, Londonderry; Site 5 (2,095 acres)—Pease International Tradeport, 601 Spaulding Turnpike, Portsmouth; and, Site 6 (45 acres)—UPS Supply Chain Solutions, 52 Pettingill Road, Londonderry.

The grantee's proposed service area under the ASF would be the Counties of Rockingham, Strafford, Carroll (partial), Belknap (partial), Cheshire, Hillsborough, Merrimack, Sullivan and Grafton (partial), New Hampshire, as described in the application. If approved, the grantee would be able to serve sites throughout the service area based on companies' needs for FTZ designation. The application indicates that the proposed service area is within and adjacent to the Portsmouth and Manchester Customs and Border Protection ports of entry.

The applicant is requesting authority to reorganize its existing zone to include existing Sites 1, 2, 4 and 5 as “magnet” sites and existing Site 6 as a usage-driven site. No new subzones or usage-driven sites are being requested at this time. The application would have no impact on FTZ 81's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is April 3, 2018. Rebuttal comments in response to material submitted during the foregoing period may be submitted during the subsequent 15-day period to April 18, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Kathleen Boyce at Kathleen.Boyce@trade.gov or (202) 482-1346.

Dated: January 30, 2018.
Elizabeth Whiteman,
Acting Executive Secretary.

[FR Doc. 2018-02105 Filed 2-1-18; 8:45 am]

BILLING CODE 3510-DS-P